DEPARTMENT OF THE INTERIOR

Bureau of Land Management

[LLNVL0000-L51100000-GN0000-LVEMF190482A 19X MO: 4500154824]

Notice of Intent To Prepare an Environmental Impact Statement for the Bald Mountain Mine Plan of Operations Amendment Juniper Project White Pine County, Nevada

AGENCY: Bureau of Land Management, Interior.

ACTION: Notice of intent.

SUMMARY: In compliance with the National Environmental Policy Act of 1969, as amended (NEPA), and the Federal Land Policy and Management Act of 1976, as amended (FLPMA), the Bureau of Land Management (BLM) Ely District Bristlecone Field Office (BFO), Nevada, intends to prepare an Environmental Impact Statement (EIS) for the Bald Mountain Mine Plan of Operations Amendment (Juniper Project). This Notice initiates the scoping process and opens a 30-day public comment period to solicit public comments and identify potential issues for analysis.

DATES: The BLM requests comments concerning the scope of the analysis that will guide the NEPA process, including the range of alternatives and issues analyzed in the EIS. All comments must be received by May 2, 2022. The Draft EIS is scheduled to be published in July 2022, and the Final EIS is scheduled to be published in November 2022, with a Record of Decision scheduled to be issued in January 2023. The BLM will announce dates of scoping meetings at least 15 days in advance of the meeting on the BLM National ePlanning website— https://go.usa.gov/xAm2g. Scoping meetings will be held online.

ADDRESSES: Send written comments to BLM Bristlecone Field Office, ATTN: BMM EIS Project, 702 North Industrial Way, Ely, Nevada 89301. Comments may also be sent via email to blm_nv_eydo_juniper_eis@blm.gov. Submit comments online at the website https://go.usa.gov/xAm2g.

FOR FURTHER INFORMATION CONTACT: Concetta Brown, Natural Resource Specialist, (775) 289-1885, or email ccbrown@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Bald Mountain Mine (BMM) is a 10,782-acre open-pit gold mine located primarily on public lands administered by the BLM located approximately 60 miles southeast of the city of Elko, Nevada, and 60 miles northwest of Ely in White Pine County, Nevada. KG Mining (Bald Mountain) Inc. (KG-BM) is the owner and operator of the BMM. The proposed expansion and development of mining components and extension of the mine life would enable KG-BM to enhance operational efficiencies and increase extraction of ore for processing and gold recovery in a cost-effective and optimal manner. The BLM BFO is the lead agency for purposes of the NEPA analysis with other agencies serving as cooperating agencies. In particular, the United States Fish and Wildlife Service (Service) is a cooperating agency with the BLM on the development of this Draft EIS to analyze the potential impacts of approving KG-BM's request for an incidental take permit for golden eagles pursuant to 50 CFR 22.2 and 22.26 implementing the Bald and Golden Eagle Protection Act (Eagle Act; 16 U.S.C. 668-668c). The Service will evaluate the KG-BM's Eagle Conservation Plan (ECP), which describes their request for the removal of golden eagle nests and for incidental disturbance take to nesting golden eagles under the Eagle Act.

Purpose and Need for the Proposed Action

The purpose of the Juniper Project is to continue mining operations by creating and expanding mine areas located within the North Operations Area (NOA), including the ongoing exploration activities within the Bald Mountain Mine Plan of Operations boundary area. In order to meet these objectives, KG-BM would expand, modify, and eliminate select authorized mine components and develop new disturbance located within the NOA. The need for the action is established by the BLM's responsibility under the Mining Law of 1872, section 302 of the FLPMA, and the BLM Surface Management Regulations at 43 CFR 3809. Under these statutes and regulations, the BLM is required to review the Juniper Project to ensure that the KG-BM activities include appropriate reclamation and do not cause unnecessary or undue degradation of the public lands.

The Service's purpose for its Federal action is to respond to KG-BM's request for a take permit for golden eagles under the Eagle Act, associated with KG-BM's mining operations at the Bald Mountain Mine. The Juniper Project would affect golden eagle nests and territories by mining activities near golden eagle nests; therefore, KG-BM has requested authorization from the Service to remove and disturb golden eagle nests under the Eagle Act. KG-BM's ECP is the foundation of the permit application and contains commitments to avoid, minimize, and mitigate adverse effects on golden eagles resulting from the implementation of the Juniper Project. Issuance of an eagle take permit must comply with the Eagle Act and all related regulatory requirements (50 CFR 22.26).

In accordance with 50 CFR 22.25 and 22.26 implementing the Eagle Act, the Service must make a permitting decision that may enable KG-BM to continue mining operations that are consistent with the Eagle Act regulations. In responding to the request for a permit, the Service must ensure compliance with the Eagle Act and the goal of maintaining stable or increasing breeding populations of Bald and Golden Eagles. The Service will consider issuance of an Eagle Act permit if: (1) The nest removal and incidental take is necessary to protect legitimate interests; (2) the take is compatible with the preservation standard of the Eagle Act; (3) the applicant has avoided and minimized impacts to eagles to the extent practicable; and (4) compensatory mitigation will be provided for any take.

Preliminary Proposed Action and Alternatives

The Bald Mountain Mine has been in continuous operation for more than 40 years; thus, mine areas are in various stages of development, operation, and reclamation. The BMM is subdivided into two plan of operation areas which consist of the NOA (BLM case number NVN-082888/Reclamation Permit No. 0025) and South Operations Area (BLM case number NVN-090443/Reclamation Permit No. 0033).

The BLM received a proposal from KG-BM—which owns and operates the Bald Mountain Mine—to amend the authorized NOA Plan of Operations. The NOA Plan of Operations is comprised of non-contiguous mine areas connected by haul roads. The proposal, which constitutes the proposed action and is referred to as the Juniper Project, generally involves:

• Extension of the NOA Plan boundary in five areas resulting in an increase of 3,425 acres;

• Expansion, reclassification, realignment, elimination, and creation of mine areas and select mine components resulting in net disturbance increase totaling 3,969 acres (including expanding and/or deepening seven authorized open pits and developing two new pits; developing three and modifying thirteen authorized rock disposal areas (RDAs) and other related disturbance);

• Increasing the height of a heap leach facility;

• Increasing the height of Poker Flats heap;

• New and realigned infrastructure (such as powerlines, fencing, wells, and piezometers);

• Developing and modifying haul roads;

• Maintaining existing footprints for select authorized mine components;

• Elimination of portions of mine components that have not been constructed;

• Re-establishing the Top underground mine;

• Sequencing and a backfill of the Poker Flats Pit;

• Planned concurrent reclamation; and

• Extension of NOA mine life by 11 years.

The proposed action would change total life-of-mine disturbance by adding 4,114 acres of new disturbance, reclassifying 877 acres, and eliminating 145 acres of authorized disturbance. This would result in an addition of 3,969 acres of net new disturbance. The new total life-of-mine disturbance would be 14,752 acres within the extended NOA Plan boundary. The proposed increase would comprise 1.5 acres of new disturbance on private land controlled by KG-BM and approximately 3,967 acres of net new disturbance located on public lands administered by the BLM.

The Juniper Project may affect golden eagle territories; therefore, KG-BM in coordination with the Service has prepared and submitted an ECP as part of the application to the Service for two eagle take permits associated with KG-BM's mining operations at the BMM.

In addition to the No Action (not approving the proposal to amend the plan of operations) and the Proposed Action, a possible alternative may include modifications to proposed mine components to facilitate mule deer migration through the NOA. Additional alternatives to be analyzed in detail in the EIS may be identified after the scoping process is completed.

Summary of Expected Impacts

In addition to potential impacts to golden eagles, preliminarily identified potential resource concerns include properties of cultural and religious importance, Native American concerns, potential impacts to cultural resources eligible for the National Register of Historic Places, potential impacts to mule deer habitat, and potential impacts to BLM sensitive species including but not limited to greater sage-grouse, ferruginous hawk, western burrowing owl, and the pygmy rabbit.

Anticipated Permits and Authorizations

The BLM anticipates that the following major permits and approvals will be required for the Juniper Project:

• Plan of Operations Amendment (BLM)

• Cultural Resources Mitigation (BLM/State Historic Preservation Office)

• Eagle Take Permit for removal of golden eagle nests (Service)

• Eagle Take Permit for incidental disturbance (Service)

• Mining Reclamation Permit (Nevada Division of Environmental Protection, Bureau of Mining Regulation and Reclamation)

• Class II Air Quality Operating Permit for Surface Area Disturbance Including a Dust Control Plan (Nevada Bureau of Environmental Protection, Bureau of Air Pollution Control)

• Water Pollution Control Permit, Bald Mountain Mine (Nevada Division of Environmental Protection, Bureau of Mining Regulation and Reclamation)

• Water Pollution Control Permit, Mooney Basin Mine Project (Nevada Division of Environmental Protection, Bureau of Mining Regulation and Reclamation)

• Water Rights Transfers (Nevada Division of Water Resources)

• Industrial Artificial Pond Bald Mountain Mine Primary Heap Leach Facility Permit (Nevada Department of Wildlife)

• Class III Landfill Waivers for the Redbird and South Duke RDA 2 Rock Disposal Areas (Nevada Division of Environmental Protection, Bureau of Waste Management)

• Permit to Operate a Public Water System, Royale Mine Area, if needed (Nevada Division of Environmental Protection, Bureau of Safe Drinking Water)

Schedule for the Decision-Making Process

The BLM anticipates a decision in November 2022.

Public Scoping Process

This notice of intent initiates the scoping process, which guides the development of the EIS. To maximize the opportunity for public input on this project while prioritizing the health and safety of BLM employees and the interested public, the BLM will host online virtual public scoping meetings to provide information and gather input on the project. The date(s) and information on how to login and participate in these virtual scoping meetings will be announced at least 15 days in advance through local media and on the BLM website at: https://go.usa.gov/xAm2g.

The BLM will use the fulfillment of the NEPA public participation requirements to assist the agency in satisfying the public involvement requirements under Section 106 of the National Historic Preservation Act (16 U.S.C 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. The Service will consult with Indian tribes within 109 miles of the project area on the proposed issuance of an eagle take permit in compliance with the Eagle Act. Federal, State, and local agencies, along with Tribes and other stakeholders that may be interested in or affected by the proposed action that the BLM is evaluating are invited to participate in the scoping process and, if eligible, may request or be requested by the BLM and Service to participate in the development of the environmental analysis as a cooperating agency.

Request for Identification of Potential Alternatives, Information, and Analyses Relevant to the Proposed Action

The BLM requests assistance with identifying potential alternatives to the Proposed Action for consideration. As alternatives should resolve a problem with the Proposed Action, please indicate the purpose of the suggested alternative. The BLM also requests that potential impacts that should be analyzed be identified. Impacts should be a result of the action; therefore, please identify the activity and the potential impact that should be analyzed. Information that reviewers have that would assist in the development of alternatives or analysis of resources issues is also helpful.

It is important that reviewers provide their comments at such times and in such manner that they are useful to the agency's preparation of the EIS. Therefore, comments should be provided prior to the close of the comment period and should clearly articulate the reviewer's concerns and contentions.

Comments received in response to this solicitation, including names and addresses of those who comment, will be part of the public record for this proposed action. Comments submitted anonymously will be accepted and considered, however.

Lead and Cooperating Agencies

The BLM is the lead agency. The Service, U.S. Environmental Protection Agency, Nevada Department of Wildlife, Nevada Department of Conservation and Natural Resources Sagebrush Ecosystem Technical Team, White Pine County Commisioners, and Elko County are cooperating agencies on this EIS.

Decision Maker

Ely District Manager Robbie McAboy is the BLM Responsible Official.

Nature of Decision To Be Made

The BLM will decide whether to approve the proposal from KG-BM to amend the NOA Plan of Operations.

The Service will decide whether to authorize eagle take, which must comply with the Eagle Act.

Robbie J. McAboy,
District Manager, Ely District Office.

[FR Doc. 2022-06821 Filed 3-30-22; 8:45 am]

BILLING CODE 4310-HC-P